DEPARTMENT OF LABOR

Employment and Training Administration

[TA-W-50,111]

Osram Sylvania Products, Inc., Bangor, ME; Notice of Termination of Investigation

Pursuant to Section 221 of the Trade Act of 1974, as amended, an investigation was initiated on November 18, 2002 in response to a worker petition filed by a company official on behalf of workers at OSRAM SYLVANIA Products, Inc., Bangor, Maine.

The petitioner has requested that the petition be withdrawn. Consequently, the investigation has been terminated.

Signed at Washington, DC this 16th day of December, 2002.
Elliott S. Kushner,
Certifying Officer, Division of Trade Adjustment Assistance.

[FR Doc. 03-404 Filed 1-8-03; 8:45 am]

BILLING CODE 4510-30-P